DEPARTMENT OF HEALTH AND HUMAN SERVICES

National Institutes of Health

National Cancer Institute; Amended Notice of Meeting

Notice is hereby given of a change in the meeting of the Frederick National Laboratory Advisory Committee to the National Cancer Institute, June 27, 2019, 9:00 a.m. to June 27, 2019, 4:30 p.m., National Cancer Institute Shady Grove, 9609 Medical Center Drive, TE406, Rockville, MD, 20850 which was published in the Federal Register on February 11, 2019, 84 FR 3215.

This meeting notice is amended to change the start and end time from 9:00 a.m.-4:30 p.m. to 9:30 a.m.-4:00 p.m. on June 27, 2019. The meeting is open to the public.

Dated: June 12, 2019.
Melanie J. Pantoja,
Program Analyst, Office of Federal Advisory Committee Policy.

[FR Doc. 2019-12710 Filed 6-14-19; 8:45 am]

BILLING CODE 4140-01-P